DEPARTMENT OF THE TREASURY

Submission for OMB Review; Comment Request

February 12, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 25, 2002 to be assured of consideration.

Internal Revenue Service

OMB Number: 1545-1483.

Form Number: IRS Form W-7.

Type of Review: Extension.

Title: Application for IRS Individual Taxpayer Identification Number.

Description: Regulations under Internal Revenue Code (IRC) section 6109 provide for a type of taxpayer identifying number called the “IRS individual taxpayer identification number” (ITIN). Individuals who currently do not have, and are not eligible to obtain, social security numbers can apply for this number on Form W-7. Taxpayers may use this number when required to furnish a taxpayer identifying number under regulations. An ITIN is intended for tax use only.

Respondents: Individuals or households

Estimated Number of Respondents: 500,000.

Estimated Burden Hours Per Respondent:

Learning about the law or the form—13 min.

Preparing the form—29 min,

Copying, assembling, and sending the form to the IRS—20 min.

Frequency of Response: Other (Individuals file once to get an ITIN).

Estimated Total Reporting Burden: 525,000 hours.

OMB Number: 1545-1757.

Regulation Project Number: REG-105344-01 NPRM and Temporary.

Type of Review: Extension.

Title: Disclosure of Returns and Return Information by Other Agencies.

Description: In general, under the regulations, the IRS is permitted to authorize agencies with access to returns and return information under section 6103 of the Internal Revenue ode to redisclose returns and return information based on a written request with the Commissioner's approval, to any authorized recipient set forth in Code section 6103, subject to the same conditions and restrictions, and for the purposes, as if the recipient had received the information from the IRS directly.

Respondents: Federal Government, State, Local or Tribal Government.

Estimated Number of Respondents: 11.

Estimated Burden Hours Per Respondent: 1 hour.

Frequency of Response: Other (once).

Estimated Total Reporting Burden: 11 hours.

Clearance Officer: George Freeland, Internal Revenue Service, Room 5577, 1111 Constitution Avenue, NW., Washington, DC 20224.

OMB Reviewer: Alexander T. Hunt (202) 395-7860, Office of Management and Budget, Room 10202, New Executive Office Building, Washington, DC 20503.

Lois K. Holland,
Departmental Reports, Management Officer.

[FR Doc. 02-4256 Filed 2-21-02; 8:45 am]

BILLING CODE 4830-01-P